FEDERAL EMERGENCY MANAGEMENT AGENCY

44 CFR Part 67

Final Flood Elevation Determinations

AGENCY: Federal Emergency Management Agency (FEMA).

ACTION: Final rule.

SUMMARY: Base (1-% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, 500 C Street SW., Washington, DC 20472, (202) 646-3461, or (e-mail) matt.miller@fema.gov.

SUPPLEMENTARY INFORMATION: FEMA makes final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Acting Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD).
ARIZONA
Maricopa County and Incorporated Areas (FEMA Docket No. 7274)
Mockingbird Wash:
Just upstream of U.S. Highway 60/89 | *1,994
Approximately 3,610 feet upstream of U.S. Highway 60/89 | *2,070
Approximately 10,450 feet upstream of U.S. Highway 60/89 | *2,256
Bullard Wash:
Approximately 2,200 feet downstream of Verde Lane | *1,004
Approximately 300 feet upstream of Indian School Road | *1,024
Arrow Wash:
Just upstream of confluence with Ashbrook Wash | *1,631
Approximately 170 feet upstream of Cavern Drive | *1,808
Ashbrook Wash:
Approximately 700 feet downstream of El Pueblo Boulevard | *1,509
Approximately 3,000 feet upstream of Golden Eagle Boulevard | *1,988
Balboa Wash:
Just upstream of confluence with Ashbrook Wash | *1,557
Just downstream of confluence with Hesperus Wash | *1,724
Caliente Wash:
Approximately 340 feet downstream of El Pueblo Boulevard | *1,530
Approximately 110 feet upstream of McDowell Mountain Road | *1,660
Cereus Wash:
Approximately 800 feet downstream of Shea Boulevard | *1,527
Approximately 400 feet upstream of Fountain Hills Boulevard | *1,763
Chukar Wash:
Just upstream of confluence with Cereus Wash | *1,640
Approximately 1,340 feet upstream of Cereus Wash | *1,671
Colony Wash:
Approximately 1,900 feet downstream of Panaorama Drive | *1,519
Just downstream of Sycamore Drive | *1,697
Cyprus Point Wash:
Cyprus Point Wash:
Approximately 900 feet downstream of Saguaro Boulevard | *1,504
Approximately 950 feet upstream of DeMaret Drive Emerald Wash: | *1,581
Emerald Wash:
Approximately 500 feet downstream of Saguaro Boulevard | *1,508
Approximately 700 feet upstream of Fountain Hills Boulevard | *1,708
Escalante Wash:
Approximately 220 feet downstream of Escalante Drive | *1,516
Approximately 60 feet upstream of McDowell Mountain Road | *1,554
Fountain Channel:
Just upstream of confluence with Colony Wash | *1,561
Approximately 1,450 feet upstream of El Lago Drive | *1,587
Greystone Wash:
Just upstream of Sycamore Drive | *1,702
Approximately 1,650 feet upstream of Sycamore Drive | *1,764
Hesperus Wash:
Just upstream of confluence with Balboa Wash | *1,724
Approximately 4,000 feet upstream of Richwood Avenue | *1,914
Jacklin Wash:
Approximately 300 feet downstream of Indian Wells Drive | *1,498
Approximately 3,420 feet upstream of Jacklin Drive | *1,614
Kingstree Wash:
Just upstream of confluence with Jacklin Wash | *1,522
Approximately 1,550 feet upstream of Inca Avenue | *1,625
Laser Drain:
Just upstream of confluence with Cereus Wash | *1,545
Approximately 200 feet upstream of Firebrick Drive | *1,561
Legend Wash:
Just upstream of confluence with Ashbrook Wash | *1,587
Just downstream of confluence with Tulip Wash | *1,677
Logan Wash:
Just upstream of confluence with Cereus Wash | *1,618
Approximately 3,330 feet upstream of Cereus Wash | *1,687
Malta Drain:
Just upstream of confluence with Emerald Wash | *1,510
Approximately 1,970 feet upstream of Quinto Drive | *1,616
Mangrum Wash:
Just upstream of confluence with Jacklin Wash | *1,537
Approximately 1,100 feet upstream of Jacklin Wash | *1,568
North Colony Wash:
Just upstream of confluence with Colony Wash | *1,601
Approximately 500 feet upstream of Thistle Drive | *1,747
Oxford Wash:
Just upstream of confluence with Balboa Wash | *1,610
Approximately 400 feet upstream of Glenbrook Boulevard | *1,719
Powder Wash:
Approximately 480 feet downstream of Leo Drive | *1,572
Approximately 960 feet upstream of Powderhorn Drive | *1,677
Sunburst Wash:
Just upstream of confluence with Colony Wash | *1,697
Approximately 690 feet upstream of Sycamore Drive | *1,733
Sycamore Wash:
Just upstream of Sycamore Drive | *1,702
Approximately 2,100 feet upstream of Sycamore Drive | *1,745
Tulip Wash:
Just upstream of confluence with Legend Wash | *1,677
Approximately 540 feet upstream of Glenbrook Boulevard | *1,719
Amir Wash:
Approximately 1,500 feet upstream of U.S. Highway 89/Tegner Street | *2,112
At Vulture Mines Road | *2,234
Approximately 2,900 feet upstream of Vulture Mines Road | *2,264
Blue Tank Wash:
Just upstream of Jack Burden Road | *2,076
Approximately 4,450 feet upstream of Jack Burden Road | *2,176
Calamity Wash:
Approximately 150 feet downstream of Wickenburg Way | *2,022
Approximately 10,900 feet upstream of Wickenburg Way | *2,332
Cemetery Wash:
Approximately 800 feet downstream of AT&SF Railroad | *2,021
Just upstream of AT&SF Railroad | *2,036
Approximately 1,700 feet upstream of Kellis Road | *2,162
Approximately 4,900 feet upstream of Vulture Peak Road | *2,532
Cemetery Wash Tributary R1:
Just upstream of confluence with Cemetery Wash | *2,249
Approximately 12,570 feet upstream of confluence with Cemetery Wash | *2,501
Cemetery Wash Tributary R2:
Just upstream of confluence with Cemetery Wash | *2,294
Approximately 8,100 feet upstream of Vulture Peak Road | *2,525
Cemetery Wash Tributary R3:
Just upstream of confluence with Cemetery Wash | *2,446
Approximately 1,000 feet upstream of Vulture Peak Road | *2,525
Deadman Wash:
Approximately 2,000 feet upstream of confluence with New River | *1,490
Approximately 14,630 feet upstream of Black Canyon Highway | *1,894
Deadman Wash—Stream No. 4:
Just upstream of confluence with Deadman Wash | *1,736
Just downstream of 29th Avenue | *1,786
Deadman Wash—Stream No. 7
At confluence with Deadman Wash | *1,733
Approximately 5,150 feet upstream of confluence with Deadman Wash | *1,782
Deadman Wash—Stream No. 12:
Approximately 3,700 feet downstream of Carefree Highway | *1,572
Approximately 3,450 feet upstream of Carefree Highway | *1,614
Flying “E” Wash:
At confluence with Sols Wash | *2,135
Approximately 1,000 feet downstream of Whipple Street (U.S. Highway 60) | *2,276
Approximately 2,400 feet upstream of Whipple Street (U.S. Highway 60) | *2,317
Approximately 9,850 feet upstream of confluence with Holly Wash | *2,522
Hartman Wash:
At confluence with Sols Wash | *2,186
Approximately 18,000 feet upstream of AT&SF Railroad | *2,438
Approximately 20,940 feet upstream of Old Highway 60 | *2,758
Unnamed Tributary to Hartman Wash:
Just upstream of confluence with Hartman Wash | *2,592
Approximately 1,630 feet upstream of confluence with Hartman Wash | *2,603
Holly Wash:
At confluence with Flying “E” Wash | *2,372
Approximately 9,350 feet upstream of confluence with Flying “E” Wash | *2,499
Iona Wash:
Approximately 1,930 feet downstream of Deer Valley Road | *1,461
At Lone Mountain Road | *1,697
Approximately 8,450 feet upstream of Black Mountain Road | *1,919
Little San Domingo Wash:
Approximately 700 feet upstream of confluence with Hassayampa River | *1,787
Approximately 4,450 feet upstream of Morristown New River Highway | *2,062
Monarch Wash:
At U.S. Highway 60/89 | *1,925
Approximately 20,300 feet upstream of U.S. Highway 60/89 | *2,368
Ox Wash:
Approximately 800 feet downstream of AT&SF Railroad | *1,830
Approximately 7,200 feet upstream of U.S. Highway 60/89 | *1,983
Powder House Wash:
At Jack Burden Road | *2,050
Approximately 5,950 feet upstream of Jack Burden Road | *2,173
Approximately 8,750 feet upstream of El Recreo Drive | *2,283
Powder House Wash Tributary #1:
Just upstream of confluence with Powder House Wash | *2,208
Approximately 1,760 feet upstream of confluence with Powder House Wash | *2,262
Powder House Wash Tributary #2:
Just upstream of confluence with Powder House Wash | *2,242
Approximately 1,350 feet upstream of confluence with Powder House Wash | *2,280
Rio Verde North—Wash A:
Approximately 3,500 feet downstream of Forest Road | *1,516
Approximately 9,400 feet upstream of Forest Road | *1,800
Rio Verde North—Wash A South:
Approximately 300 feet downstream of Forest Road | *1,583
Approximately 4,450 feet upstream of Forest Road | *1,681
Rio Verde North—Wash F:
Approximately 2,060 feet downstream of Forest Road | *1,527
Approximately 3,020 feet upstream of Forest Road | *1,662
Rio Verde North—Wash I:
Approximately 980 feet downstream of Forest Road | *1,530
Approximately 2,320 feet upstream of Forest Road | *1,651
San Domingo Wash:
Just upstream of U.S. Highway 60/89 | *1,864
Approximately 12,060 feet upstream of U.S. Highway 60/89 | *2,022
Sols Wash Tributary AH2:
At confluence with Sols Wash | *2,382
Approximately 9,400 feet upstream of confluence with Sols Wash | *2,426
Sols Wash Tributary AH3:
At confluence with Sols Wash | *2,324
Approximately 6,550 feet upstream of U.S. Highway 24 | *2,635
Unnamed Tributary to Sols Wash Tributary AH3:
At confluence with Sols Wash Tributary AH3 | *2,380
Approximately 10,900 feet upstream of confluence with Sols Wash Tributary AH3 | *2,503
Sols Wash Tributary AH4:
At confluence with Sols Wash | *2,315
Approximately 8,120 feet upstream of confluence with Sols Wash | *2,437
Sols Wash Tributary AH5:
At confluence with Sols Wash | *2,260
Approximately 2,000 feet upstream of Old Highway 60 | *2,576
Sunny Cove Wash:
At confluence with Sunset Wash | *2,076
Just downstream of Flood Control Dam | *2,108
Sunny Cove Wash (Upper Reach):
At Flood Control Dam | *2,155
Approximately 200 feet upstream of Steinway Drive | *2,330
Sunset Wash:
At confluence with Hassayampa River | *2,032
Approximately 2,650 feet upstream of Jackson Street | *2,108
Turtle Back Wash
At confluence with Hassayampa River | *1,990
Approximately 10,300 feet upstream of AT&SF Railroad | *2,185
Twin Peaks Wash:
Approximately 520 feet upstream of confluence with Yucca Flat Wash | *2,416
Approximately 11,500 feet upstream of confluence with Yucca Flat Wash | *2,553
Wash AG:
Approximately 900 feet downstream of AT&SF Railroad | *2,028
Approximately 4,300 feet upstream of AT&SF Railroad | *2,120
Wash E-2:
Approximately 870 feet upstream of confluence with Mockingbird Wash | *2,055
Approximately 2,120 feet upstream of confluence with Mockingbird Wash | *2,082
Wash F:
Approximately 400 feet upstream of U.S. Highway 60/89 | *1,872
Approximately 5,100 feet upstream of U.S. Highway 60/89 | *2,028
Wash F-2:
At confluence with Wash F | *1,872
Approximately 2,250 feet upstream of confluence with Wash F | *1,953
Wash G:
Just upstream of U.S. Highway 60/89 | *1,895
Approximately 5,340 feet upstream of U.S. Highway 60/89 | *2,022
Wash H:
Just upstream of U.S. Highway 60/89 | *1,898
Approximately 9,250 feet upstream of U.S. Highway 60/89 | *2,052
Wash I:
Just upstream of U.S. Highway 60/89 | *1,934
Approximately 6,380 feet upstream of U.S. Highway 60/89 | *2,071
Wash K:
Approximately 900 feet downstream of U.S. Highway 60/89 | *1,944
Approximately 19,650 feet upstream of U.S. Highway 60/89 | *2,394
Wash K-1:
Just upstream of confluence with Wash K | *2,292
Approximately 4,400 feet upstream of confluence with Wash K | *2,396
Wash L:
Just upstream of Palm Lake Spillway | *1,955
Approximately 6,500 feet upstream of U.S. Highway 60/89 | *2,152
Wash O:
Approximately 700 feet downstream of U.S. Highway 60/89 | *1,997
Approximately 7,000 feet upstream of U.S. Highway 60/89 | *2,189
Wash P:
Approximately 420 feet downstream of Jack Burden Road | *2,089
Approximately 1,430 feet upstream of Jack Burden Road | *2,131
Wash Q:
Just downstream of AT&SF Railroad | *2,010
Approximately 5,500 feet upstream of AT&SF Railroad | *2,180
Wash S-2:
Approximately 1,850 feet upstream of confluence with Little San Domingo Wash | *1,844
Approximately 2,450 feet upstream of confluence with Little San Domingo Wash | *1,854
Yucca Flat Wash:
At confluence with Upper Flying “E” Wash | *2,310
At confluence with Twin Peaks Wash | *2,416
Approximately 6,550 feet upstream of confluence with Twin Peaks Wash (just downstream of Yucca Tank) | *2,497
White Tanks Wash:
Approximately 2,000 feet upstream of Buckeye Flood Retarding Structure | *1,081
Approximately 350 feet downstream of Sun Valley Parkway | *1,389
White Tanks Wash Tributary No. 1:
Just upstream of White Tanks Wash | *1,159
Approximately 300 feet downstream of Sun Valley Parkway | *1,336
Skunk Tank Wash:
At confluence with Skunk Creek | *1,760
At Rockaway Hills Road Valley | *1,929
Valley Wash:
Approximately 750 feet upstream of confluence with Skunk Tank Wash | *1,794
Just downstream of 11th Avenue | *1,800
Queen Creek:
Just upstream of Hawes Road | *1,379
Just downstream of Southern Pacific Railroad | *1,441
Maps are available for inspection at the Flood Control District of Maricopa County, 2801 West Durango Street, Phoenix, Arizona.
Maps are available for inspection at the Town of Buckeye Town Hall, 100 North Apache Street, Buckeye, Arizona.
Maps are available for inspection at the Town of Fountain Hills Town Hall, 16836 East Palisades Boulevard, Fountain Hills, Arizona.
Maps are available for inspection at the City of Goodyear City Hall, 119 North Litchfield Road, Goodyear, Arizona.
Maps are available for inspection at the City of Peoria City Hall, 8401 West Monroe Street, Peoria, Arizona.
Maps are available for inspection at the City of Phoenix Street Transportation Department, 200 West Washington Street, Fifth Floor, Phoenix, Arizona.
Maps are available for inspection at the Town of Queen Creek Town Hall, 22350 South Ellsworth Road, Queen Creek, Arizona.
Maps are available for inspection at the City of Surprise, Community Development Services, 12425 West Bell Road, Suite D-100, Surprise, Arizona.
Maps are available for inspection at the Town of Wickenburg Town Hall, 155 North Tegner Street, Wickenburg, Arizona.
ARKANSAS
Little Rock (City), Pulaski County (FEMA Docket No. B-7410)
Fourche Creek:
At confluence with Arkansas River | *249
Just downstream of Frazier Pike | *254
Just downstream of State Highway 67/70 (Northbound University Avenue) | *258
Fourche Bayou:
Approximately 1,000 feet downstream of Frazier Pike | *240
Grassy Flat Creek:
At confluence with Rock Creek | *330
Just downstream of Reservoir Road | *367
Approximately 300 feet upstream of Rocky Valley Drive | *481
Little Maumelle River:
Approximately 1.2 miles upstream of confluence with Arkansas River | *263
Rock Creek:
At confluence with Fourche Creek | *258
Approximately 200 feet upstream of Barrow Road | *333
Maps are available for inspection at the City of Little Rock Department of Public Works, 701 West Markham Street, Little Rock, Arkansas.
———
Pulaski County, (Unincorporated Areas) (FEMA Docket No. B 7410)
Fourche Creek:
Approximately 200 feet downstream of Airport Road | *253
Just upstream of Mabelvale Pike | *258
Little Fourche Creek:
Approximately 2,700 feet upstream of West 65th Stream | *257
Just downstream of Geyer Springs Road | *267
Rock Creek:
Just upstream of Kanis Road | *467
Approximately 1,300 feet upstream of Kanis Road | *493
Rock Creek Tributary A:
At confluence with Rock Creek | *479
Approximately 2,600 feet upstream of Chanel Valley Parkway | *538
Maps are available for inspection at the Pulaski County Planning Department, 501 West Markham Street, Little Rock, Arkansas.
CALIFORNIA
San Mateo (City), San Mateo County (FEMA Docket No. 7282)
San Mateo Creek:
Approximately 800 feet downstream of J. Hart Clinton Drive | *7.0
Approximately 55 feet upstream of El Cerrito Road | *73
San Mateo Creek Overflow:
Approximately 1,600 feet downstream of divergence from San Mateo Creek | *7.0
At divergence from San Mateo Creek | *12.0
Maps are available for inspection at the City of San Mateo City Hall, 330 West 20th Avenue, San Mateo, California.
KANSAS
Douglas County and Incorporated Areas (FEMA Docket No. B-7401)
Atchinson, Topeka, & Santa Fe Tributary:
Approximately 300 feet upstream of County Road 1550 North | +821
Approximately 1,300 feet upstream of Atchinson, Topeka, & Santa Fe Railroad | +827
Just upstream of 13th Street | +831
Approximately 600 feet upstream of Learnard Street | +855
Baldwin Creek:
Approximately 2,500 feet upstream of County Road 900 East | +922
Just downstream of County Road 1800 North | +840
Just upstream of County Road 1000 East | +870
Baldwin Creek Tributary:
Approximately 300 feet downstream of County Road 975 East | +885
Approximately 4,00 feet upstream of County Road 975 East | +931
Belle Haven Tributary:
Approximately 300 feet downstream of West 29th Terrace | +826
Approximately 500 feet upstream of West 29th Terrace | +829
Approximately 350 upstream of West 27th Terrace | +836
Broken Arrow Tributary:
Approximately 1,850 feet downstream of Private Drive | +825
Approximately 1,300 feet upstream of Private Drive | +847
Brook Street Tributary:
Just downstream of 13th Street | +827
Approximately 1,100 feet upstream of 15th Street | +843
Coal Creek:
Approximately 400 downstream of County Road 1100 North | +817
Just downstream of County Road 700 North | +860
Approximately 1,900 feet upstream of County Road 600 North | +884
Coon Creek:
Approximately 200 feet downstream of West Woodson Avenue | +855
Country Club—Hope Plaza Tributary:
Just downstream of Michigan Street | +830
Approximately 850 feet upstream of Complex Road | +834
Deerfield Tributary:
Just upstream of Kasold Drive | +856
Approximately 1,100 feet upstream of Kansas Turnpike | +857
Just downstream of Princeton Boulevard | +883
Eudora East Tributary:
Approximately 650 feet upstream of Atchinson, Topeka, & Santa Fe Railroad | +810
Approximately 1,100 feet upstream of Private Access Road | +840
Approximately 80 feet upstream of 10th Street | +840
Approximately 1,300 feet upstream of Private Access Road | +841
Approximately 2,800 feet upstream of the Corporate Limit line with the City of Eudora | +864
Eudora Middle Tributary:
Just downstream of Atchinson, Topeka, & Santa Fe Railroad | +807
Approximately 100 feet upstream of Atchinson, Topeka, & Santa Fe Railroad | +814
Just downstream of 10th Street | +824
Approximately 800 feet upstream of 12th Street | +837
Haskell Tributary:
Approximately 150 feet upstream of downstream Limit of Detailed Study | +823
Approximately 100 downstream of the upstream Limit of Detailed Study | +834
Hidden Valley Tributary:
Approximately 3,000 feet upstream of 23rd Street | N/A
Just downstream of County Road 1350 North | +837
Just downstream of 23rd Street | +850
Just upstream of 23rd Street | +851
Approximately 3,00 feet upstream of 23rd Street | +871
Kansas River:
Just downstream of County Road 2172 East | +807
Approximately 5,500 feet upstream of confluence of Atchinson, Topeka, & Santa Fe Railroad Tributary | +820
Approximately 200 feet downstream of North 2nd Street | +827
Approximately 6,500 feet upstream of the confluence of Baldwin Creek | +837
Approximately 3,500 feet upstream of Eisenhower Memorial Drive | +848
Approximately 300 feet downstream of Douglas County/Shawnee County Line | +861
Kanwaka Tributary:
Just downstream of Private Drive | +930
Approximately 4,500 feet upstream of Private Drive | +1,000
KLWN Tributary:
Approximately 2,400 feet downstream of West 31st Street | +833
Just downstream of 31st Street | +843
Approximately 2,250 feet upstream of West 31st Street | +862
Little Wakarusa Creek:
Approximately 200 feet downstream of County Road 2000 East | +812
Approximately 10,500 feet upstream of County Road 2000 East | +814
Maple Grove Drainage:
Approximately 2,350 feet downstream of Union Pacific Railroad | +811
Approximately 450 upstream of North 9th Street | +820
Approximately 1,700 feet upstream of West Fork Union Pacific Railroad | +823
Just upstream of County Road 1400 East | +824
Naismith Creek:
Approximately 2,600 feet upstream of 31st Street | +826
Approximately 1,500 feet downstream of West 27th Street | +830
Approximately 500 feet downstream of West 23rd Street | +848
Just upstream of 21st Street | +865
North Spring Creek:
Approximately 2,500 feet upstream of County Road 1275 North | +813
Pleasant Grove:
Approximately 2,000 feet downstream of East Tributary County Road 1100 North | +830
Just downstream of County Road 1400 East | +850
Approximately 500 feet downstream of County Road 1000 North | +878
Pleasant Grove West Tributary:
Approximately 2,400 feet downstream of County Road 1100 North | +830
Just downstream of County Road 1300 East | +876
Approximately 1,650 feet upstream of County Road 1300 East | +931
Pleasant Valley Tributary:
Approximately 850 feet downstream of County Road 1300 East | +830
Just upstream of County Road 1100 North | +845
Just downstream of County Road 1200 East | +894
Quail Creek:
Approximately 2,200 feet upstream of the confluence with Yankee Tank Creek | N/A
Just downstream of Brush Creek Drive | +840
Approximately 350 downstream of Quail Creek Drive | +871
Approximately 1,000 feet upstream of Quail Creek Drive | +880
Tauy Creek East Fork:
Approximately 4,450 downstream of County Road 150 North | +978
Just downstream of County Road 200 North | +996
Just upstream of County Road 200 North N/A | +997
Approximately 1,900 feet downstream of High Street | +1,003
Just downstream of Highway 56 | +1,022
Just upstream of Highway 56 | +1,030
Approximately 450 feet upstream of County Road 1700 East | +1,055
Approximately 1,900 feet upstream of County Road 1700 East | +1,069
Tauy Creek East Fork Tributary:
At the confluence with Tauy Creek East Fork | +988
Approximately 750 feet downstream of 6th Street | +995
Approximately 250 feet upstream of Chapel Street | +1,043
Tauy Creek East Fork Tributary A:
Approximately 150 feet downstream of 3rd Street | +1,019
Approximately 200 feet upstream of 1st Street | +1,042
Tauy Creek East Fork Tributary B:
Approximately 1,000 feet downstream of 3rd Street | +1,004
Just downstream of 3rd Street | +1,020
Tauy Creek East Fork Tributary C:
Approximately 1,250 feet downstream of 3rd Street | +1,007
Approximately 400 feet upstream of High Street | +1,037
Vinland Creek:
Approximately 3,500 feet downstream of County Road 790 North | +838
Just upstream of County Road 700 North | +864
Vinland Creek West Fork:
Just downstream of County Road 1650 East | +862
Just upstream of County Road 1600 East | +888
Wakarusa River:
Just downstream of County Road 2172 East | +807
Just upstream of Atchinson, Topeka, & Santa Fe Railroad | +808
Just upstream of County Road 1900 East | +813
Approximately 1,300 feet upstream of County Road 1750 East | +815
Approximately 3,000 feet upstream of U.S. Highway 59 | +829
Approximately 3,000 feet upstream of County Road 1150 East | +833
Wakarusa River (left overbank flow):
Approximately 200 feet downstream of Haskell Avenue | +818
Approximately 1,300 feet upstream of County Road 1750 East | +814
Approximately 200 feet upstream of County Road 1400 East | +823
Washington Creek:
Just upstream of County Road 1200 East | +836
Approximately 3,800 feet upstream of County Road 1075 North | +846
Just upstream of County Road 650 East | +908
Washington Creek Tributary:
Approximately 850 feet downstream of County Road 1075 North | +842
Approximately 200 feet downstream of Private Road | +858
Approximately 2,600 feet upstream of County Road 900 North | +878
Yankee Tank Creek:
Approximately 500 feet downstream of Kasold Drive | +831
Yankee Tank Creek East Branch:
Approximately 1,650 feet upstream of Kasold Drive | +837
Just downstream of Highway 10 | +850
Approximately 400 feet downstream of West 15th Street | +881
Yankee Tank Creek West Branch:
Approximately 4,700 feet downstream of South Lawrence Trafficway | +834
Approximately 600 feet upstream of South Lawrence Trafficway | +843
Elevation in feet (NAVD 1988)
Maps are available for inspection at the Douglas County Department of Public Works, 1242 Massachusetts Street, Lawrence Kansas.
Maps are available for inspection at the City of Lawrence Courthouse Planning Department, 6 East Sixth Street, Lawrence, Kansas.
Maps are available for inspection at the City of Lecompton City Hall, 333 Elmore Street, Lawrence, Kansas.
Maps are available for inspection at the City of Eudora City Hall, 4 East Seventh Street, Eudora, Kansas.
Maps are available for inspection at the City of Baldwin City Hall, 803 Eighth Street, Baldwin, Kansas.
MISSOURI
Waynesville (City), Pulaski County (FEMA Docket No. B-7404)
Roubidoux Creek:
Approximately 5,600 feet downstream of Historical Route 66 | 773*
Approximately 2,600 feet upstream of Historical Route 66 | 784*
Just downstream of Interstate Highway 44 | 786*
Mitchell Creek:
At confluence with Roubidoux Creek | 782*
Northern Side of Interstate 44 | 850*
Pearson Hollow:
At confluence with Mitchell Creek | 827*
Approximately 700 feet upstream of New Road | 901*
Maps are available for inspection at City Hall, 201 North Elm Street, Waynesville, Missouri.
NEBRASKA
Lancaster County and Incorporated Areas FEMA Docket No. B-7404)
Middle Creek:
Approximately 1,400 feet downstream of Holdrege Street | None
Approximately 200 feet downstream of Holdrege Street | None
Salt Creek:
Approximately 350 feet upstream of North 112th Street | *1,120
Approximately 5,800 feet upstream of Rokeby Road | *1,192
At Satillo Road | *1,196
Stevens Creek:
Approximately 1,000 feet downstream of Van Dorn Street | *1,206
Maps for the City of Lincoln and the unincorporated areas of Lancaster County are available for inspection at the Building and Safety Department, 555 South 10th Street, Lincoln, Nebraska 68508.
OKLAHOMA
Creek County, (Unincorporated Areas) (FEMA Docket No. B-7407)
Polecat Creek:
Just upstream of 33rd West Avenue | *663
Approximately 4,000 feet upstream of Burlington Northern Railroad | *667
Rock Creek:
At confluence with Polecat Creek | *666
Approximately 1,100 feet downstream of Lake Sahoma Den Outlet | *694
Nickel Creek:
Just upstream of 33rd West Avenue | *636
Approximately 3,500 feet upstream of 66th Street | *712
Maps are available for inspection at the County Courthouse, 317 East Lee, Sapulpa, Oklahoma.
———
Gore (Town), Sequoyah County (FEMA Docket No. B-7407)
Arkansas River:
Western corporate limits just south of the Union Pacific Railroad | *481
Maps are available for inspection at the Town Municipal Building, 8th and South Main Streets, Sallisaw, Oklahoma.
———
Muskogee County, Unincorporated Areas (FEMA Docket No. B-7407)
Arkansas River (Lower Reach):
Just upstream of Interstate Highway 40 | *476
Approximately 4,000 feet downstream of U.S. Highway 64 | *479
Just north of U.S. Highway 64 | *480
Approximately 3,500 feet downstream of Webbers Falls Lock and Dam | *483
Dirty Creek:
Approximately 700 feet downstream of Route 100 | *485
Approximately 500 feet upstream from intersection of Muskogee Turnpike and Interstate 40 | *487
Maps are available for inspection at the Muskogee County Courthouse, 1300 South Cherokee, Muskogee, Oklahoma.
———
Sapulpa (City), Creek County (FEMA Docket No. B-7407)
Nickel Creek:
Approximately 3,000 feet downstream of Land Road | *663
Approximately 300 feet upstream of Tulsa Sapulpa Union Railroad | *695
Polecat Creek:
Approximately 4,000 feet downstream of Hilton Road | *649
Approximately 8,000 feet upstream of Hilton Road | *654
Just upstream of Route 117 | *662
Just downstream of alternate Route 75 | *667
Rock Creek:
Approximately 3,300 feet upstream of the confluence with Polecat Creek | *667
Just downstream of Old Highway 66 | *678
Just downstream of Turner Turnpike | *684
Maps are available for inspection at 425 East Dewey, Sapulpa, Oklahoma.
———
Sequoyah County, (Unincorporated Areas) (FEMA Docket No. B-7407)
Arkansas River:
Just above Highway 40 | *476
Approximately 4,200 feet upstream of Route 100—U.S. Highway 64 | *481
Maps are available for inspection at the Sequoyah County Courthouse, 120 East Chickasaw, Sallisaw, Oklahoma.
———
Webbers Falls (Town), Muskogee County (FEMA Docket No. B-7407)
Arkansas River (Lower Reach):
Approximately 4,000 feet downstream of U.S. Highway 64 | *479
Just north of U.S. Highway 64 | *480
Maps are available for inspection at the Webbers Falls City Hall, 100 River Street, Webbers Falls, Oklahoma.
OREGON
Portland (City), Multnomah, Clackamas and Washington Counties (FEMA Docket No. B-7413)
Fanno Creek:
Approximately 2,350 feet downstream of Southwest 59th Avenue | *243
Approximately 50 feet upstream of Southwest 45th Avenue | *281
Maps are available for inspection at City Hall, 1221 Southwest Fourth Avenue, Portland, Oregon.
SOUTH DAKOTA
Day County and Incorporated Areas (FEMA Docket No. B-7410)
Bitter Lake:
Along entire shoreline | *1,810
Blue Dog Lake:
Along entire shoreline | *1,810
Foldager Slough:
Along entire shoreline | *1,810
Goose Lake:
Along entire shoreline | *1,810
Hillebrands Lake:
Along entire shoreline | *1,810
Little Rush Lake:
Along entire shoreline | *1,810
Minnewasta Lake:
Along entire shoreline | *1,810
Rush Lake:
Along entire shoreline | *1,810
Solomon Slough:
Along entire shoreline | *1,810
South Waubay Lake:
Along entire shoreline | *1,810
Spring Lake:
Along entire shoreline | *1,810
Swan Pond:
Along entire shoreline | *1,810
Waubay Lake:
Along entire shoreline | *1,810
Maps for the Town of Grenville and the unincorporated areas of Day County are available for inspection at 711 West First Street, Webster, South Dakota.
Maps for the City of Waubay are available for inspection at City Hall, 415 Main Street, Waubay, South Dakota.
Maps for the City of Webster are available for inspection at City Hall, 800 Main Street, Webster, South Dakota.
TEXAS
Dallas County and Incorporated Areas (FEMA Docket No. 7318)
Trinity River:
Approximately 2,500 feet downstream of Dowdy Ferry Road | *394
At Loop 12 | *403
At confluence of West Fork and Elm Fork Trinity River | *423
West Fork Trinity River:
At confluence with Elm Fork Trinity River | *423
Just downstream of Belt Line Road | *440
Approximately 11,000 feet upstream of State Route 360 | *465
Elm Fork Trinity River:
At confluence with West Fork Trinity River | *423
Just downstream of Valley View Lane | *435
Approximately 13,000 feet upstream of the confluence of Indian Creek | *454
Tenmile Creek:
Just upstream of abandoned Watermill Road | *440
Approximately 300 feet downstream of Interstate Highway 35 | *529
At Westmoreland Road | *584
Approximately 300 feet downstream of Cockrell Hill Road | *599
Long Branch of Muddy Creek:
Approximately 1,200 feet upstream of Gulf, Colorado, and Santa Fe Railroad | *520
Approximately 1,200 feet downstream of Dewitt Road | *530
Indian Creek:
Approximately 800 feet downstream of Paige Road | *532
Approximately 2,300 feet upstream of Paige Road | *542
Cottonwood Creek of Grand Prairie:
At confluence with Mountain Creek of Grand Prairie Mountain Creek Lake | *458
Approximately 2,000 feet downstream of SE 14th Street (Fish Creek Road) | *459
Approximately 150 feet downstream of SE 8th Street | *470
Bear Creek:
Approximately 2,850 feet downstream of County Road | *521
Maps are available for inspection at City Hall, 105 Cockrell Hill Road, Ovilla, Texas.
Maps are available for inspection at the County Administration Building, 411 Elm, 4th Floor, Dallas, Texas.
Maps are available for inspection at City Hall, Public Works Department, 1945 East Jackson, Carrollton, Texas.
Maps are available for inspection at City Hall, Engineering Department, 255 Parkway Boulevard, Coppell, Texas.
Maps are available for inspection at Oak Cliff Municipal Center, Floodplain Management and Erosion Control, 320 E. Jefferson, Room 321, Dallas (Oak Cliff), Texas 75201.
Maps are available for inspection at City Hall, Development Services, 211 East Pleasant Run Road, DeSoto, Texas.
Maps are available for inspection at City Hall, Public Works, 203 East Wheatland Road, Duncanville, Texas.
Maps are available for inspection at City Hall, Engineering Department, 13000 William Dodson Parkway, Farmers Branch, Texas.
Maps are available for inspection at the Engineering Department, 206 West Church, Grande Prairie, Texas.
Maps are available for inspection at the Codes Department, 205 West Hickman, Hutchins, Texas.
Maps are available for inspection at the Civic Center, Public Works, 825 West Irving Boulevard, Irving, Texas.
Maps are available for inspection at Public Works Department, 700 East Main, Lancaster, Texas.
Maps are available for inspection at City Hall, Community Development, 5560 Highway 78, Sachse, Texas.
———
Denton County and Incorporated Areas (FEMA Docket No. 7318)
Denton Creek (Below Grapevine Lake):
At confluence with Elm Fork of Trinity River | *445
Approximately 6,400 feet upstream of confluence with Elm Fork of Trinity River | *445
Approximately 26,000 feet upstream of confluence with Elm Fork of Trinity River | *455
Dudley Branch:
Approximately 50 feet upstream from confluence with Elm Fork of Trinity River | *451
Approximately 425 feet upstream of the Missouri-Kansas-Texas Railroad | *452
Approximately 750 feet downstream from Eisenhower Street | *453
At Eisenhower Street | *457
Elm Fork Trinity River West Split Flow Area:
At confluence with Elm Fork Trinity River | *453
At divergence from Elm Fork Trinity River | *457
Elm Fork Trinity River (Below Lewisville Lake):
Approximately 1,050 feet downstream from confluence with Timber Creek | *449
Approximately 300 feet downstream from Interstate 35 | *450
At State Route 121 | *462
At Atchinson, Topeka and Santa Fe Railway | *462
Indian Creek (At Grapevine Lake):
At confluence with Elm Fork Trinity River | *452
Approximately 7,000 feet upstream of confluence with Elm Fork Trinity River | *452
Approximately 700 feet upstream of West Hebron Parkway | *462
Lake Lewisville Spillway:
At confluence with Elm Fork Trinity River | *462
Approximately 2,400 feet upstream of confluence with Elm Fork Trinity River | *462
Approximately 5,500 feet upstream of State Route 12 | *482
Timber Creek:
At confluence with Elm Fork Trinity River | *449
Approximately 900 feet upstream of Pound Grove Road | *453
Approximately 2,500 feet upstream of Interstate Route 35E | *463
Maps are available for inspection at the Planning Department, 306 North Loop 288, Denton, Texas.
Maps are available for inspection at the Engineering Department, 1197 West Main, 2nd Floor, Lewisville, Texas.
———
Fort Bend County, (Unincorporated Areas) (FEMA Docket No. B-7413)
San Bernard River:
Approximately 2 miles downstream of FM 442 | *64
Approximately 2.25 miles upstream of the confluence with Snake Creek | *79
Maps are available for inspection at Fort Bend County Engineer's Office, 1124 Blume Road, Rosenberg, Texas.
———
Gillespie County and (Incorporated Areas) (FEMA Docket No. 7310)
Baron's Creek:
Approximately 4,000 feet upstream of U.S. Highway 290 | *1,611
Approximately 4,200 feet upstream of U.S. Highway 290 | *1,612
Downstream of East Main Street | *1,650
Stream FB-1:
At confluence with Baron's Creek | *1,641
Approximately 1,500 feet upstream of confluence with Baron's Creek | *1,647
Approximately 1,950 feet upstream of Lower Crabapple Road | *1,780
Town Creek:
Approximately 60 feet downstream of Edison Street | *1,710
Approximately 200 feet upstream of Schubert Road | *1,711
Approximately 2,150 feet upstream of Morse Street | *1,751
Pedernales River:
At Gillespie/Blanco County Line | *1,398
Approximately 3,100 feet upstream of Cellemar Lane | *1,473
Salt Branch:
At confluence with Pedernales River | *1,442
Approximately 4,300 feet upstream of Highway 290 | *1,473
Stream SB-1:
At confluence with Salt Branch | *1,444
Approximately 5,800 feet upstream of Highway 290 | *1,465
Split Flow # 1:
At convergence with Pedernales River | *1,422
At Divergence from Pedernales River | *1,435
Maps are available for inspection at the City of Fredericksburg Development Services Division, 126 W. Main Street, Fredericksburg, Texas.
Maps are available for inspection at Gillespie County Floodplain Department, 101 West Main, Unit #9, Fredericksburg, Texas.
———
Vernon (City), Wilbarger County (FEMA Docket No. B-7407)
Pease River Tributary 1:
Approximately 100 feet downstream of Harrison Street | +1,206
Approximately 2,400 feet upstream of Brewer Street | +1,231
Pease River Tributary 2:
Approximately 100 feet downstream of the BN&SF Railroad | +1,200
Just upstream of U.S. Highway 287 | +1,219
+ Elevation in NAVD of 1988
Maps are available for inspection at the City of Vernon City Hall, 1725 Wilbarger Street, Vernon, Texas.
———
Wharton County, Unincorporated Areas (FEMA Docket No. B-7413)
East Fork Jones Creek:
Approximately 800 feet upstream of FM 960 | *115
Approximately 7,000 feet upstream of River Valley Road | *122
East Mustang Creek:
Approximately 1,800 feet downstream of confluence of Stage Stand Creek | *72
Approximately 1,750 feet downstream of Stockton Road | *88
San Bernard River:
Approximately 10,000 feet downstream of FM 442 | *64
At confluence of Peach Creek | *79
Maps are available for inspection at the Wharton County Engineer's Office, 1017 North Alabama, Wharton, Texas.
UTAH
Salt Lake County and Incorporated Areas (FEMA Docket No. B-7404)
Big Cottonwood Creek:
At confluence with Jordan River | *4,243
Just upstream of 4500 South Street | *4,265
At 900 West Street | *4,291
Little Cottonwood Creek:
Approximately 200 feet upstream of confluence with Jordan River | *4,249
Approximately 100 feet downstream of 5900 South Street | *4,347
Mill Creek:
At confluence with Jordan River | *4,233
Just downstream of State Street | *4,251
Approximately 300 feet downstream of 3300 South Street | *4,263
Maps for the City of Murray are available for inspection at the Office of the City Engineer, 4646 South 500 West, Murray, Utah.
Maps for the City of South Salt Lake are available for inspection at 220 East Morris Avenue, South Salt Lake, Utah 85115.
WASHINGTON
Cowlitz County (Unincorporated Areas) (FEMA Docket No. 7318)
Cowlitz River:
At confluence with Columbia River | *18
Approximately 3 miles upstream of the confluence of the Toutle River | *62
Toutle River:
At confluence with Cowlitz River | *58
Immediately downstream of Burlington Northern Railroad | *58
Arkansas Creek:
At confluence with Cowlitz River | *48
Approximately 0.3 mile downstream of Delameter Road | *48
Ostrander Creek:
Just downstream of Burlington Northern Railroad | *33
At Ostrander Road | *33
Coweman River (Lower Reach near Kelso):
Approximately 1.5 miles upstream of confluence with Cowlitz River | *19
Approximately 4.3 miles upstream of confluence with Cowlitz River | *19
Maps are available for inspection at the Planning Department, County Courthouse, 207 4th Avenue North, Kelso, Washington.
———
Castle Rock (City), Cowlitz County (FEMA Docket No. 7318)
Cowlitz River:
Approximately 14,500 feet downstream of State Highway 10 | *43
Approximately 2,700 feet upstream of State Highway 10 | *53
Maps are available for inspection at City Hall, 141 A Street, SW, Castle Rock, Washington.
———
Kelso (City), Cowlitz County (FEMA Docket No. 7318)
Cowlitz River:
At confluence with Columbia River | *18
Approximately 4,500 feet upstream of Cowlitz Way | *27
Coweman River:
At confluence with Cowlitz River | *19
Approximately 1.6 miles upstream of Kelso Drive | *19
Maps are available for inspection at the Mayor and Council Office, Allen Street, Kelso, Washington.
———
Longview (City), Cowlitz County (FEMA Docket No. 7318)
Cowlitz River:
At State Route 43Z | *19
Approximately 4,500 feet upstream of Cowlitz Way | *27
Maps are available at the Planning and Building Department, 1525 Broadway, Longview, Washington.

(Catalog of Federal Domestic Assistance No. 83.100, “Flood Insurance.”)

Robert F. Shea,
Acting Administrator, Federal Insurance and Mitigation Administration.

[FR Doc. 01-20075 Filed 8-9-01; 8:45 am]

BILLING CODE 6718-04-P